DEPARTMENT OF TRANSPORTATION

Federal Motor Carrier Safety Administration

[Docket No. FMCSA-2007-28055]

Demonstration Project on NAFTA Trucking Provisions

AGENCY: Federal Motor Carrier Safety Administration (FMCSA), DOT.

ACTION: Notice; extension of public comment period.

SUMMARY: The FMCSA announces an extension of the comment period for its June 8 notice concerning a project to demonstrate the ability of Mexico-domiciled motor carriers to operate safely in the United States beyond the commercial zones. On May 1, 2007, FMCSA published a notice in the Federal Register announcing the demonstration project as part of the Agency's implementation of the North American Free Trade Agreement (NAFTA) cross-border trucking provisions. On June 8, 2007, FMCSA published a second notice adding certain details concerning the demonstration project. The FMCSA extends the comment period on the June 8 notice in order to give the public more time to review supplemental information the Agency added to the docket; and because of technical problems associated with the relocation of the computers that host the electronic docket, which interfered with access to the Docket Management System (DMS).

DATES: Comments must be received on or before July 9, 2007.

ADDRESSES: You may submit comments identified by U.S. Department of Transportation (DOT) DMS Docket Number FMCSA-2007-28055 by any of the following methods:

• Web Site: http://dms.dot.gov. Follow the instructions for submitting comments on the DOT electronic docket site.

• Fax: 1-202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington DC, 20590 between 9 a.m. and 5 p.m., e.t., Monday through Friday, except Federal holidays.

• Federal eRulemaking Portal: Go to http://www.regulations.gov. Follow the online instructions for submitting comments.

• Instructions: All submissions must include the Agency name and docket number for this notice. For detailed instructions on submitting comments and additional information, see the Public Participation heading below. Note that all comments received will be posted without change to http://dms.dot.gov, including any personal information provided. Please see the Privacy Act heading below.

Docket: For access to the DMS to read background documents or comments received, go to http://dms.dot.gov at any time or to the U.S. Department of Transportation, Docket Operations, M-30, West Building Ground Floor, Room W12-140, 1200 New Jersey Avenue, SE., Washington DC, 20590 between 9 a.m. and 5 p.m., e.t., Monday through Friday, except Federal holidays. The DMS is available electronically 24 hours each day, 365 days each year, except as noted above.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://dms.dot.gov.

Public Participation: The DMS is available 24 hours each day, 365 days each year, except during the relocation period noted above. You can get electronic submission and retrieval help and guidelines under the “help” section of the DMS Web site. Comments received after the comment closing date will be included in the docket, and will be considered to the extent practicable.

FOR FURTHER INFORMATION CONTACT: Mr. Milt Schmidt. Telephone (202) 366-4049; e-mail milt.schmidt@dot.gov.

Request for Comments

All comments received before the close of business on July 9, 2007, will be considered and will be available for examination in the docket at the location listed under the address section of this notice. Comments received after the comment closing date will be filed in the public docket and will be considered to the extent practicable. In addition to late comments, the FMCSA will also continue to file, in the public docket, relevant information that becomes available after the comment closing date. Interested persons should continue to examine the public docket for new material.

Issued on: June 28, 2007,
John H. Hill,
Administrator.

[FR Doc. 07-3250 Filed 6-29-07; 9:27 am]

BILLING CODE 4910-EX-P